NATIONAL SCIENCE BOARD

Sunshine Act; Meetings

Agency Holding Meeting: National Science Foundation; National Science Board and its Subdivisions.

Date and Time: October 13-14 2004.

October 13, 2004: 8:30 a.m.-5 p.m. Concurrent Sessions: 8:30 a.m.-9:30 a.m. Open; 9:30 a.m.-10:30 a.m. Open; 10:30 a.m.-11:30 a.m. Open; 11:30 a.m.-12:15 p.m. Open; 12:15 p.m.-12:30 p.m. Closed; 1 p.m.-1:15 p.m. Open; 1:15 p.m.- 1:30 p.m. Closed; 1:30 p.m.-3 p.m. Open; 3 p.m.-5 p.m. Closed.

October 14, 2004: 8:30 a.m.-3:30 p.m. Concurrent Sessions: 8:30 a.m.-10:45 a.m. Open; 10:45 a.m.-11 a.m. Closed; 11 a.m.-12:30 p.m. Open; 12:30 p.m.-1 p.m. Closed; 1:30 p.m.- 1:45 p.m. Closed; 1:45 p.m.-2 p.m. Closed; 2 p.m.-3:30 p.m. Open.

PLACE: The National Science Foundation, 4201 Wilson Boulevard, Arlington, VA 22230, http://www.nsf.gov/nsb.

Contact for Information: NSF Information Center (703) 292-5111.

Status: Part of this meeting will be closed to the public. Part of this meeting will be open to the public.

Matters to be Considered:

Wednesday, October 13, 2004.

Open:

Subcommittee on S&E Indicators (8 a.m.-9:30 a.m.), Room 1295.

• Approval of minutes

• Discussion & approval of Chapter Outlines for S&EI 2006

• Review of key dates in Indicators schedule.

Subcommittee on Polar Issues (9:30 a.m.-10:30 a.m.), Room 1235.

• Chair's remarks, approval of minutes

• OPP Director's remarks

• Opening ice channel to McMurdo

• Planning for International Polar Year.

ad hoc Task Group on High Risk Research (10:30 a.m.-11:30 a.m.), Room 1295.

• Discussion of workshop.

Committee on Strategy and Budget (11:30 a.m.-12:15 p.m.), Room 1235.

• Remarks from Chair

• Approval of minutes

• Discussion of planning activities

• Status of FY 2005 budget request to Congress.

Executive Committee (1 p.m.-1:15 p.m.), Room 1295.

• Approval of minutes

• Executive Committee Chair's items

• NSB Chair's items.

Committee on Programs and Plans (1:30 p.m.-3 p.m.), Room 1235.

• Approval of Minutes, March 2004

• Working Group reports:

○ ad hoc Task Group on High Risk Research

○ Task Group on Long-Lived Data Collections

○ Subcommittee on Polar Issues.

• NSB action item: Draft Joint Response to the National Academies' Report on Setting Priorities for Large Research Facility Projects Supported by the NSF.

Closed:

Committee on Strategy & Budget (12:15 p.m.-12:30 p.m.), Room 1235.

• Discussion of FY 2006 NSF budget request to OMB.

Executive Committee (1:15 p.m.-1:30 p.m.), Room 1295.

• Director's items, including:

○ Specific personnel matters

○ Future budgets.

Committee on Programs and Plans (3 p.m.- 5 p.m.), Room 1235.

• Future MREFC Program budgets

• Action items.

Thursday, October 14, 2004

Open:

Committee on Audit & Oversight (9:30 a.m.-10:45 a.m.), Room 1235.

• Approval of minutes

• Advisory Committee on GPRA Performance Assessment

• Review of Draft responses to House Appropriations Committee questions regarding use and compensation of NSF IPA's/VSEE/Temporary Workers

• Development of Board position on NAPA study recommendations

• Chief Financial Officer's update

• OIG audit plan for FY 2005.

Committee on Education and Human Resources (11 a.m.-12:30 p.m.).

• Approval of Minutes

• Presentations and Discussion on Broadening Participation report

• Discussion of revised Broadening Participation Workshop report

• Reports and Discussion items.

Open Plenary Session of the Board (2 p.m.-3:30 p.m.), Room 1235,

• Approval of minutes

• Resolution to close portions of the December 2004 meeting

• Chairman's report

• Director's report

• Committee reports

• Presentation from Dr. John Brighton, ENG.

Closed:

Committee on Audit & Oversight (10:45 a.m.-11 a.m.), Room 1235.

• Pending Investigations.

ad hoc Committee on Nominating NSB Class of 2006-2012 (12:30 p.m.-1 p.m.), Room 1295.

• Discussion of nominees for appointment as NSB member

Executive Closed Plenary Session of the Board (1:30 p.m. -1:45 p.m.), Room 1235.

• Approval of Executive Closed minutes

• Report from Nominations Committee.

Closed Plenary Session of the Board (1:45 p.m.-2 p.m.), Room 1235.

• Approval of Closed minutes

• Awards & Agreements

• Future MREFC Budgets

• Closed Committee reports.

Michael P. Crosby,
Executive Officer, NSB.

[FR Doc. 04-22575 Filed 10-4-04; 11:55 am]

BILLING CODE 7555-01-P